NUCLEAR REGULATORY COMMISSION

[NRC-2013-0041]

Proposed Revision to Design of Structures, Components, Equipment and Systems; Correction

AGENCY: Nuclear Regulatory Commission.

ACTION: Standard review plan-draft section revision; request for comment and use; correction.

SUMMARY: This document corrects a notice appearing in the Federal Register on March 1, 2013 (41 FR 13911), that announced the solicitation for comments of the proposed revision in Chapter 3, “Design of Structures, Components, Equipment, and Systems” and is soliciting public comment on NUREG-0800, “Standard Review Plan for the Review of Safety Analysis Reports for Nuclear Power Plants: LWR Edition.” This action is necessary to correct the date of the document. This action also corrects an incorrect Agency Wide Document Management System Accession Number contained in the “Supplementary Information” section of the notice.

FOR FURTHER INFORMATION CONTACT: Ms. Amy E. Cubbage, Office of New Reactors, U.S. Nuclear Regulatory Commission, Washington, DC 20555-0001; telephone: 301-415-2875, email: Amy.Cubbage@nrc.gov.

SUPPLEMENTARY INFORMATION: On page 13911, middle column under the header: NRC's Agencywide Documents Access and Management System (ADAMS), change sentence, Section 3.8.3, Proposed Revision 4 (ML12353A377), Current Revision 3 (ML100620981), Redline (ML12354A089). Also on the same page, third column, last but second line from the bottom change the date of the document to 14th day of February 2013.

Dated at Rockville, Maryland, this 4th day of March 2013.
For the Nuclear Regulatory Commission.
Amy E. Cubbage,
Chief, Policy Branch, Division of Advanced Reactors and Rulemaking, Office of New Reactors.

[FR Doc. 2013-05616 Filed 3-11-13; 8:45 am]

BILLING CODE 7590-01-P